DEPARTMENT OF THE INTERIOR

National Park Service

National Register of Historic Places; Notification of Pending Nominations

Nominations for the following properties being considered for listing in the National Register were received by the National Park Service before January 20, 2001. Pursuant to § 60.13 of 36 CFR Part 60 written comments concerning the significance of these properties under the National Register criteria for evaluation may be forwarded to the National Register, National Park Service, 1849 C St. NW., NC400, Washington, DC 20240. Written comments should be submitted by February 15, 2001.

Carol D. Shull,
Keeper of the National Register of Historic Places.

ALASKA

Nome Borough-Census Area

Council City and Solomon River Railroad, Mile 31, Nome-Council Hwy, Solomon, 01000109

ARKANSAS

Benton County

Sulphur Springs Old School Complex Historic District, 512 Black St., Sulphur Springs, 01000113

Crittenden County

Memphis and Arkansas Bridge, (Historic Bridges of Arkansas MPS)

US 55, West Memphis, 01000139

Dallas County

Nutt—Trussell Building, 202 N. Main St., Fordyce, 01000110

Jefferson County

National Guard Armory—Pine Bluff, 623 W. 2nd Ave., Pine Bluff, 01000112

Marion County

Estes—Williams American Legion Hut #61, AR 62/412, Yellville, 01000111

Pulaski County

Doe Branch Post Office, 32100 Kanis Rd., Ferndale, 01000114

DISTRICT OF COLUMBIA

District of Columbia

Theodore Roosevelt Island, Theodore Roosevelt Island, Washington, 01000115

ILLINOIS

Peoria County

Pioneers, The, Central Park, N., Magnolia St., Elmwood, 01000117

LOUISIANA

Acadia Parish

Bernard, Joseph D., House, 1023 The Boulevard, Rayne, 01000119

Madison Parish

Bear Lake Club, Ltd. Clubhouse, Parish Rd. 39 near jct. with Bear Lake and Roundaway Bayou, Tallulah, 01000118

MASSACHUSETTS

Middlesex County

Kendal Green Historic District, North Ave., Church, Viles Sts., Brook Rd., Weston, 01000121

Worcester County

Castle Street Row (Boundary Increase), (Worcester MRA) 20-24 Castle St., Worcester, 01000120

MISSOURI

Callaway County

Richland Christian Church, 5301 Callaway Cty. Rd. 220, Kingdom City, 01000122

MONTANA

Flathead County

Harrison Lake Patrol Cabin, US 2, Glacier National Park, 01000116

NEW YORK

Kings County

New Utrecht Reformed Church Complex (Boundary Increase), 8523 16th Ave., Brooklyn, 01000126

NORTH CAROLINA

Henderson County

Hyman Heights—Mount Royal Historic District, (Hendersonville MPS) Roughly bounded by Ridgecrest Pl., Highland Ave., Hyman Ave., Patton St., N. Main St., and Oakland St., Hendersonville, 01000124

Stillwell, Erle, House, 1300 Pinecrest Dr., Hendersonville, 01000125

Hertford County

Jernigan, Roberts H., House, 209 S. Catherine Creek Rd., Ahoskie, 01000123

OREGON

Coos County

35-CS-130—The Osprey Site, (Native American Archeological Sites of the Oregon Coast MPS) Address Restricted, North Bend, 01000131

Crook County

Newport Avenue Bridge, Conant Basin Road Bridge, Post, 01000137

Curry County

35-CU-215—High Point Shell Midden, (Native American Archeological Sites of the Oregon Coast MPS) Address Restricted, Carpenterville, 01000135

Douglas County

35-DO-130—Tahkenitch Landing Site, (Native American Archeological Sites of the Oregon Coast MPS) Address Restricted, Gardiner, 01000132

Lincoln County

35-LNC-76—The Ahnkuti Site, (Native American Archeological Sites of the Oregon Coast MPS) Address Restricted, Toledo, 01000133

Multnomah County

Ambruster, Frederick, Cottage, (Eliot Neighborhood MPS) 502 NE Tillamock, Portland, 01000130

Benson, Simon, House, Jct. of SW Montgomery and SW Ninth, Portland, 01000155

Laurelhurst Park, (City Beautiful Movement and Civic Planning in Portland, Oregon MPS) 3554 SE Ankeny St., Portland, 01000134

Tillamook County

35-TI-4—Cronin Point Site, (Native American Archeological Sites of the Oregon Coast MPS) Address Restricted, Manzanita, 01000128

35-TI-75—Spruce Tree Site, (Native American Archeological Sites of the Oregon Coast MPS) Address Restricted, Manzanita, 01000127

35-TI-76— North Trail House Site, (Native American Archeological Sites of the Oregon Coast MPS) Address Restricted, Manzanita, 01000129

Archeological Site 35-TI-40, (Native American Archeological Sites of the Oregon Coast MPS) Address Restricted, Netarts, 01000136

PENNSYLVANIA

Carbon County

Summit Hill High School, 124 W. Hazard St., Summit Hill, 01000138

TENNESSEE

Obion County

Central Elementary School, (Union City, Tennessee MPS) 512 East College St., Union City, 01000141

Mt. Zion Colored Methodist Episcopal Church, (Union City, Tennessee MPS) 105 N. Greenwood, Union City, 01000140

VIRGINIA

Alexandria Independent city

Presbyterian Meeting House, Old, 321 S. Fairfax St., Alexandria (Independent City), 01000143

Bedford County

Otterburn, Big Island Rd., Bedford, 01000146

Charlotte County

Gravel Hill, 3990 Fearstown Rd., Charlotte Court House, 01000150

Charlottesville Independent city

Abell—Gleason House, 521 N. First St., Charlottesville (Independent City), 01000151

Clarke County

Smithfield Farm, 568 Smithfield Ln., Berryville, 01000148

Culpeper County

Croftburn Farm, 18175 Croftsburn Farm Rd., Culpepper, 01000153

Eckington School, Jct. of VA 658 and VA 661, Culpeper, 01000154

Fairfax Independent city

Blenheim, 3610 Old Lee Hwy., Fairfax (Independent City), 01000152

Fluvanna County

Rivanna Farm, Rte. 1,, Breno Bluff, 01000147

Frederick County

Opequon Presbyterian Church, 217 Opequon Church Ln., Winchester, 01000145

Montgomery County

Long, Edgar A., Building, 140 Scatttergood Dr., Christianburg, 01000149

Pittsylvania County

Craft, Phillip, House, 1381 Old Red Eye Rd., Chatham, 01000144

Rockingham County

Kyle's Mill House, 1764 Cross Keys Rd., Harrisonburg, 01000142

A request for REMOVAL has been made for the following resource:

OREGON

Multnomah County

1504 SW 11th Ave.

Portland, 83002167

[FR Doc. 01-2641 Filed 1-30-01; 8:45 am]

BILLING CODE 4310-70-P